DEPARTMENT OF EDUCATION

[CFDA No.: 84.007, 84.033, and 84.038]

Student Financial Assistance; Federal Perkins Loan, Federal Work-Study, and Federal Supplemental Educational Opportunity Grant Programs

Notice of the closing date for submitting waivers of the allocation reduction provisions of the Federal Perkins Loan, Federal Work-Study (FWS), and Federal Supplemental Educational Opportunity Grant (FSEOG) programs.

SUMMARY: Under sections 413D(d)(2), 442(d)(2), and 462(i)(4) of the Higher Education Act of 1965, as amended, if an institution returns to the Department for reallocation more than ten percent of its Federal Perkins Loan, FWS, or FSEOG allocation for an award year, the institution will have its allocation for the second succeeding award year for that program reduced by the dollar amount returned. The Secretary may waive this requirement for an institution if the Secretary finds that enforcement of the requirement would be contrary to the interest of that program. The Secretary considers the enforcement of this requirement contrary to the interest of that program only if the institution returns more than ten percent of its allocation due to circumstances beyond the institution's control that are not expected to recur. Accordingly, we give notice to institutions that returned more than ten percent of their 1999-2000 award year allocations under the Federal Perkins Loan, FWS, or FSEOG programs of the deadline date for submitting a written request to waive the allocation reduction provisions for those programs for the 2001-2002 award year.

DATES: Closing Date for Submitting a Waiver Request and Supporting Information or Documents. If an institution returned more than ten percent of its Federal Perkins Loan, FWS, or FSEOG allocation for the 1999-2000 award year and wants a waiver of the allocation reduction provision under that program for the 2001-2002 award year, it must submit a waiver request, provide a written explanation for its return of those funds, and submit any additional documentation to support its explanation by October 1, 2000.

An institution requests a waiver by selecting the “Yes” box in Part II, Section C, Line 6 of its Fiscal Operation Report for 1999-2000 and Application to Participate for 2001-2002 (FISAP). Provide a written explanation of the circumstances that caused the underuse of allocation on the electronic FISAP “Additional Information Screen.” The institution must transmit its request and explanation electronically by the established FISAP deadline of October 1, 2000.

In addition, an institution may mail or have hand-delivered any additional documentation that its supports its waiver request. The documentation may be included with the FISAP signature page and certification forms. The documentation must be mailed to one of the addresses indicated in this notice by the established deadline date of October 1, 2000. Documents that are hand-delivered must be received by 5 p.m. on Friday, September 29, 2000.

We will not consider any waiver request from an institution that submits its request and supporting information or documents after the closing date.

ADDRESSES: Supporting Documents Delivered by Mail. If these documents are delivered by mail, they must be addressed to Electronic FISAP Administrator, c/o Universal Automation Labs (UAL), Suite 500, 8300 Colesville Road, Silver Spring, Maryland 20910-3289.

An institution must show proof of mailing these documents by October 1, 2000. Proof of mailing consists of one of the following: (1) A legible mail receipt with the date of mailing stamped by the U.S. Postal Service, (2) a legibly dated U.S. Postal Service postmark, (3) a dated shipping label, invoice, or receipt from a commercial carrier, or (4) any other proof of mailing acceptable to the U.S. Secretary of Education.

If these documents are sent through the U.S. Postal Service, the Secretary does not accept either of the following as proof of mailing: (1) A private metered postmark, or (2) a mail receipt that is not dated by the U.S. Postal Service. An institution should note that the U.S. Postal Service does not uniformly provide a dated postmark. Before relying on this method, an institution should check with its local post office. An institution is encouraged to use certified or at least first-class mail.

Supporting Documents Delivered by Hand. If these documents are delivered by hand, they must be taken to Universal Automation Labs (UAL), Suite 500, 8300 Colesville Road, Silver Spring, Maryland.

Documents that are hand-delivered will be accepted between 9 a.m. and 5 p.m. daily (Eastern Time), except Saturdays, Sundays, and Federal holidays. Documents hand-delivered must be received by 5 p.m. on September 29, 2000.

Applicable Regulations

The following regulations apply:

(1) Student Assistance General Provisions, 34 CFR Part 668.

(2) General Provisions for the Federal Perkins Loan Program, Federal Work-Study Program, and Federal Supplemental Educational Opportunity Grant Program, 34 CFR Part 673.

(3) Federal Perkins Loan Program, 34 CFR Part 674.

(4) Federal Work-Study Program, 34 CFR Part 675.

(5) Federal Supplemental Educational Opportunity Grant Program, 34 CFR Part 676.

(6) Institutional Eligibility Under the Higher Education Act of 1965, as amended, 34 CFR Part 600.

(7) New Restrictions on Lobbying, 34 CFR Part 82

(8) Governemntwide Debarment and Suspension (Nonprocurement) and Governmentwide Requirments for Drug-Free Workplace (Grants) 34 CFR Part 85

(9) Drug-Free Schools and Campuses, 34 CFR Part 86.

FOR FURTHER INFORMATION CONTACT: For technical assistance concerning the waiver request or other operational procedures of the campus-based programs, contact: Ms. Sandra K. Donelson, Campus-Based Operations, Student Financial Assistance, 1250 Maryland Avenue, SW., Washington, D.C. 20202-5453. Telephone (202) 708-9751. Individuals who use a telecommunications device for the deaf (TDD) may call the Federal Information Relay Service (FIRS) at 1-800-877-8339.

Individuals with disabilities may obtain this document in an alternate format (e.g., Braille, large print, audiotape, or computer diskette) by contacting the person listed in the preceding paragraph.

Electronic Access to This Document

You may view this document, as well as all other Department of Education documents published in the Federal Register, in text or Adobe Portable Document Format (PDF) on the Internet at either of the following sites:

http://ocfo.ed.gov/fedreg.htm

http://www.ed.gov/news.html

To use the PDF you must have Adobe Acrobat Reader, which is available free at either of the previous sites. If you have questions about using the PDF, call the U.S. Government Printing Office (GPO) toll free, at 1-888-293-6498; or in the Washington, D.C., area at (202) 512-1530.

Note: The official version of this document is the document published in the Federal Register. Free Internet access to the official edition of the Federal Register and the Code of Federal Regulations is available on GPO Access at: http://www.access.gpo.gov/nara/index.html

Program Authority: 20 U.S.C. 1087aa et seq.; 42 U.S.C. 2751 et seq.; and 20 U.S.C. 1070b et seq.

Dated: August 28, 2000.
Greg Woods,
Chief Operating Officer, Office of Student Financial Assistance.

[FR Doc. 00-22429 Filed 8-31-00; 8:45 am]

BILLING CODE 4000-01-P